FEDERAL ELECTION COMMISSION

Sunshine Act Meetings

TIME AND DATE: Tuesday, November 10, 2015 at 10 a.m.

PLACE: 999 E Street NW., Washington, DC (Ninth Floor)

STATUS: This meeting will be open to the public.

MATTERS TO BE CONSIDERED:

Draft Advisory Opinion 2015-09: Senate Majority PAC and House Majority PAC

Draft Advisory Opinion 2015-11: FYP, LLC

Draft Advisory Opinion 2015-12: Ethiq, Inc.

REG 2014-09 Amendment of 11 CFR 115

Rulemaking Priorities and Proposals:

Regulatory Relief for Political Parties

REG 2014-10 Outline of Draft NPRM Implementing Party Segregated Accounts

REG 2013-01 Draft Notice of Proposed Rulemaking on Technical Modernization

Notice of Proposed Rulemaking on Reporting Multistate Independent Expenditures and Electioneering Communications in Presidential Primary Elections

Commission Documents/Public Disclosure Policies

Third Motion to Set Priorities and Scheduling on Pending Enforcement Matters Awaiting Reason-to-Believe Consideration

Management and Administrative Matters

Individuals who plan to attend and require special assistance, such as sign language interpretation or other reasonable accommodations, should contact Shawn Woodhead Werth, Secretary and Clerk, at (202) 694-1040, at least 72 hours prior to the meeting date.

CONTACT PERSON FOR MORE INFORMATION: Judith Ingram, Press Officer, Telephone: (202) 694-1220.

Shawn Woodhead Werth,
Secretary and Clerk of the Commission.

[FR Doc. 2015-28370 Filed 11-3-15; 4:15 pm]

BILLING CODE 6715-01-P